SECURITIES AND EXCHANGE COMMISSION

[File No. 500-1]

Order of Suspension of Trading; In the Matter of A-Power Energy Generation Systems, Ltd.

July 3, 2012.

It appears to the Securities and Exchange Commission (“Commission”) that there is a lack of current and accurate information concerning the securities of A-Power Energy Generation Systems, Ltd. (“A-Power”) because, among other things, it: (1) Has not filed any periodic reports since the period ended December 31, 2009; and (2) failed to disclose that its independent auditor resigned after A-Power's management informed the auditor that it did not intend to regain current filing status with the Commission.

The Commission is of the opinion that the public interest and the protection of investors require a suspension of trading in the securities of the above-listed company.

Therefore, it is ordered, pursuant to Section 12(k) of the Securities Exchange Act of 1934, that trading in the securities of A-Power is suspended for the period from 9:30 a.m. EDT on July 3, 2012, through 11:59 p.m. EDT on July 17, 2012.

By the Commission.
Jill M. Peterson,
Assistant Secretary.

[FR Doc. 2012-16654 Filed 7-3-12; 11:15 am]

BILLING CODE 8011-01-P